DEPARTMENT OF COMMERCE

National Oceanic and Atmospheric Administration

RIN 0648-XA572

Mid-Atlantic Fishery Management Council (MAFMC); Meeting

AGENCY: National Marine Fisheries Service (NMFS), National Oceanic and Atmospheric Administration (NOAA), Commerce.

ACTION: Notice of public meeting.

SUMMARY: The Joint Mid-Atlantic Fishery Management Council's and the Atlantic States Marine Fisheries Commission's Summer Flounder, Scup, Black Sea Bass, and Bluefish Industry Advisory Panels will hold public meetings.

DATES: The meeting will be held on Wednesday, August 10, 2011 from 10 a.m. to 3 p.m. See SUPPLEMENTARY INFORMATION.

ADDRESSES: The meeting will be held via webinar with a telephone-only connection option. Details on webinar registration and the telephone-only connection details are available at: http://www.mafmc.org.

Council address: Mid-Atlantic Fishery Management Council, 800 North State Street, Suite 201, Dover, DE 19901; telephone: (302) 674-2331.

FOR FURTHER INFORMATION CONTACT: Christopher M. Moore, Ph.D., Executive Director, Mid-Atlantic Fishery Management Council, 800 North State Street, Suite 201, Dover, DE 19901; telephone: (302) 674-2331, extension 255.

SUPPLEMENTARY INFORMATION: The Scup, Black Sea Bass, Summer Flounder, and Bluefish Industry Advisory Panels will discuss the 2012 annual catch targets (ACTs) and management measures to achieve ACTs for the summer flounder, scup, black sea bass, and bluefish fisheries. Scup advisors will meet from 10 a.m. to 11 a.m., Black Sea Bass Advisors will meet from 11 a.m. to 12 p.m., Summer Flounder Advisors will meet from 1 p.m. to 2 p.m., and Bluefish Advisors will meet from 2 p.m. to 3 p.m.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: July 12, 2011.
Tracey L. Thompson,
Acting Director, Office of Sustainable Fisheries, National Marine Fisheries Service.

[FR Doc. 2011-17893 Filed 7-14-11; 8:45 am]

BILLING CODE 3510-22-P